DEPARTMENT OF AGRICULTURE

Submission for OMB Review; Comment Request

May 16, 2008.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Natural Resource Conservation Service

Title: Emergency Watershed Protection Program Recovery.

OMB Control Number: 0578-0030.

Summary of Collection: The Emergency Watershed Protection (EWP) Program regulations at 7 CFR 624 set forth the basic policies, program provisions, and eligibility requirements for sponsors to participate in the EWP program. The Natural Resource Conservation Service (NRCS) is responsible for administration of EWP Program. EWP assistance is provided to sponsors to undertake emergency measures for runoff retardation and soil erosion prevention to safeguard lives and property from floods, drought, and the products of erosion on any watershed whenever fire, flood, or any other natural disaster occurrence is causing or has caused a sudden impairment of that watershed. The sponsor's request is submitted formally as a letter (NRCS-PDM-20A) to the NRCS State Conservationist for consideration. Form NRCS-PDM-20, Damage Survey Report (DSR) is the agency decision-making document that includes the economic, social, and environmental evaluation, as well as the engineer's cost estimate.

Need and Use of the Information: The collected information allows the responsible federal official to make EWP eligibility determinations and provide federal cost-share payments to the sponsors. Without the information NRCS would not be able to implement the program.

Description of Respondents: State, Local, or Tribal Government.

Number of Respondents: 190.

Frequency of Responses: Reporting: Other (Disaster Occurrence).

Total Burden Hours: 5,035.

Ruth Brown,
Departmental Information Collection Clearance Officer.

[FR Doc. E8-11357 Filed 5-20-08; 8:45 am]

BILLING CODE 3410-16-P